DEPARTMENT OF TRANSPORTATION

Federal Aviation Administration

14 CFR Part 61

[Docket No. FAA-2024-2580; Amdt. No. 61-158A]

RIN 2120-AM06

Regulatory Updates to BasicMed; Correction

AGENCY: Federal Aviation Administration (FAA), U.S. Department of Transportation (DOT).

ACTION: Correcting amendment.

SUMMARY: On November 18, 2024, the Federal Aviation Administration (FAA) published a final rule titled “Regulatory Updates to BasicMed.” That document implemented the provisions of sections 815 and 828 of the FAA Reauthorization Act of 2024. The final rule's revision to the part 61 authority citation that cites the 2024 FAA Reauthorization Act was erroneously overwritten by another rulemaking action revising part 61. This document corrects the amendatory instruction and revises the part 61 authority citation to be inclusive of the intended updates promulgated in the BasicMed final rule.

DATES: This correction is effective December 27, 2024.

FOR FURTHER INFORMATION CONTACT: Bradley C. Zeigler, Federal Aviation Administration, 800 Independence Avenue SW, Washington, DC 20591; telephone: (202) 267-1100; email: Bradley.C.Zeigler@faa.gov.

SUPPLEMENTARY INFORMATION: On October 1, 2024, the FAA published the final rule Removal of Expiration Date on a Flight Instructor Certificate; Additional Qualification Requirements To Train Initial Flight Instructor Applicants; and Other Provisions in the Federal Register (89 FR 80020) (hereinafter the CFI rule). That final rule removed the expiration date on flight instructor certificates to align with other airman certificates. Additional amendments included updating renewal requirements to recent experience requirements, introducing a new method for establishing recent flight instructor experience, and allowing instructors with a lapse of no more than three months to reinstate privileges via an approved flight instructor refresher course instead of a practical test. The final rule also added two new methods for flight instructors to qualify to train initial applicants.

As part of the amendments made in the CFI rule, the FAA revised the authority citation for part 61 by removing 49 U.S.C. 106(g) as that paragraph had been removed and reserved as part of the FAA Reauthorization Act of 2024. The final rule added section 820 of Public Law 118-63 to the authority citation. Section 820 of the FAA Reauthorization Act of 2024 required the FAA to promulgate the CFI final rule within 18 months after the date of enactment of the Act, to at a minimum, update part 61, Code of Federal Regulations, to remove the expiration date on the flight instructor certificate and replace the requirement that a flight instructor renews their flight instructor certificate with appropriate recent experience requirements. The CFI rule became effective on December 1, 2024.

Subsequently, on November 18, 2024, the FAA published the final rule Regulatory Updates to BasicMed (89 FR 90572) (hereinafter the BasicMed rule). That final rule implemented the provisions of sections 815 and 828 of the FAA Reauthorization Act of 2024. In the BasicMed rule, the FAA revised the authority citation for part 61 by adding sections 815 and 828 of Public Law 118-63 to the authority citation for part 61. The BasicMed final rule became effective on the date of publication, November 18, 2024.

However, when the CFI rule became effective on December 1, 2024, and the authority citation for part 61 was revised in accordance with the instructions contained in the CFI rule, those revisions inadvertently removed the revisions made in the BasicMed final rule which published after, but became effective before, the CFI rule. Therefore, this correction revises the authority citation for part 61 to include both the revisions from the CFI rule and the BasicMed rule.

List of Subjects in 14 CFR Part 61

Aircraft, Airmen, Aviation safety, Reporting and recordkeeping requirements.

PART 61—CERTIFICATION: PILOTS, FLIGHT INSTRUCTORS, AND GROUND INSTRUCTORS

1. The authority citation for part 61 is revised to read as follows:

Authority: 49 U.S.C. 106(f), 40113, 44701-44703, 44707, 44709-44711, 44729, 44903, 45102-45103, 45301-45302; Sec. 2307, Pub. L. 114-190, 130 Stat. 615 (49 U.S.C. 44703 note); sec. 318, Pub. L. 115-254, 132 Stat. 3186 (49 U.S.C. 44703 note); sec. 820, Pub. L. 118-63, 138 Stat. 1330 (49 U.S.C. 44939 note); secs. 815 and 828, Pub. L. 118-63, 138 Stat. 1328, 1336 (49 U.S.C. 44703 note).

Issued under authority provided by 49 U.S.C. 106(f), 44701(a), and 44703 in Washington, DC.
Brandon Roberts,
Executive Director, Office of Rulemaking.

[FR Doc. 2024-30940 Filed 12-26-24; 8:45 am]

BILLING CODE 4910-13-P